Title 3—

The President

Proclamation 8465 of December 15, 2009

65th Anniversary of the Battle of the Bulge, 2009

By the President of the United States of America

A Proclamation

In December 1944, a brave band of American soldiers, stationed in the Ardennes Forest region on the Western Front of Europe, who were surrounded, poorly supplied and surviving in brutally cold conditions, took the brunt of a furious German assault. Their valor defined not just the beginning of the end of a World War, but also one of the greatest generations of Americans. Like patriots before them, they stood resolute, confident in their training, and determined to preserve those enduring American ideals of freedom and justice. On the 65th Anniversary of the Battle of the Bulge, a grateful Nation remembers the fallen who gave their lives in that critical battle, and we pay tribute to the heroes whose indomitable strength led to victory in World War II.

When asked about the Battle of the Bulge, British Prime Minister Sir Winston Churchill remarked, “This is undoubtedly the greatest American battle of the war and will, I believe, be regarded as an ever-famous American victory.” Confronting not just the advancing German Army, but the elements, American service members withstood the assault and eventually repelled the Nazi forces, but at tremendous cost in lives and wounded soldiers.

On this anniversary, we reflect on the enduring commitment of our Armed Forces in defending our liberty, as inspiring today as it was in 1944. The discipline and courage displayed in the Battle of the Bulge continues in Iraq, Afghanistan, and wherever our men and women in uniform are serving. They represent the best of our Nation and we are eternally grateful for their service and sacrifice.

NOW, THEREFORE, I, BARACK OBAMA, President of the United States of America, by virtue of the authority vested in me by the Constitution and the laws of the United States, do hereby proclaim Wednesday, December 16, 2009, as the 65th Anniversary of the Battle of the Bulge. I encourage all Americans to observe this solemn day of remembrance with appropriate ceremonies and activities.

IN WITNESS WHEREOF, I have hereunto set my hand this fifteenth day of December, in the year of our Lord two thousand nine, and of the Independence of the United States of America the two hundred and thirty-fourth.

[FR Doc. E9-30411

Filed 12-18-09; 8:45 am]

Billing code 3195-W0-P